DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Wednesday, November 15, 2017.

FOR FURTHER INFORMATION CONTACT: Ms. Anna Millikan, IRSAC Program Manager, Office of National Public Liaison, CL:NPL:P, Room 7571, 1111 Constitution Avenue NW., Washington, DC 20224. Telephone: 202-317-6851 (not a toll-free number). Email address: PublicLiaison@irs.gov.

SUPPLEMENTARY INFORMATION: Notice is hereby given pursuant to section 10(a) (2) of the Federal Advisory Committee Act, 5 U.S.C. App. (1988), a public meeting of the IRSAC will be held on Wednesday, November 15, 2017, from 9:00 a.m. to 12:45 p.m. at the Washington Marriott Wardman Park Hotel, 2660 Woodley Road NW., Wilson Room, Washington, DC 20008. Issues to be discussed include, but are not limited to: W-2 Verification Codes and Engaging Tax Practitioners; Taxpayer and Practitioner Concerns Regarding Private Debt Collection; The LB&I Examination Process (LEP); The Need for Express Statutory Authority to Confirm the Treasury Department's Ability to Establish, Enforce, and Require Minimum Standards of Competence for All Tax Practitioners, Including Tax Return Preparers; Third-Party Application Programming Interfaces (APIs); and The Continuing Need for the Internal Revenue Service to be Adequately Funded. Last-minute agenda changes may preclude advanced notice. The meeting room accommodates approximately 60 people; this number includes IRSAC members and Internal Revenue Service officials. Due to limited seating, please call Anna Millikan at 202-317-6851 to confirm your attendance. Attendees are encouraged to arrive at least 30 minutes before the meeting begins. Should you wish the IRSAC to consider a written statement, please write to Internal Revenue Service, Office of National Public Liaison, CL:NPL, Room 7559, 1111 Constitution Avenue NW, Washington, DC 20224 or email PublicLiaison@irs.gov.

Dated: October 23, 2017.
John Lipold,
Designated Federal Official.

[FR Doc. 2017-23495 Filed 10-27-17; 8:45 am]

BILLING CODE 4830-01-P